DEPARTMENT OF LABOR

Occupational Safety and Health Administration

Susan Harwood Training Grant Program, FY 2017

AGENCY: Occupational Safety and Health Administration (OSHA), Labor.

ACTION: Notice of availability of funds and funding opportunity announcement (FOA) for Targeted Topic Training grants.

FUNDING OPPORTUNITY NUMBER: SHTG-FY-17-01 (Targeted Topic grants)

CATALOG OF FEDERAL DOMESTIC ASSISTANCE NUMBER: 17.502

SUMMARY: This notice announces availability of approximately $10.5 million for Susan Harwood Training Program grants. The funding opportunity announcement is available for Targeted Topic Training grants. Funding Opportunity Number SHTG-FY-17-01 will cover the two types of Targeted Topic Training grants: (1) Targeted Topic Training and (2) Training and Educational Materials Development grants.

DATES: Grant applications for Targeted Topic Training grants must be received electronically by the Grants.gov system no later than 11:59 p.m., ET, on August 28, 2017.

ADDRESSES: The complete Susan Harwood Training Grant Program funding opportunity announcement and all information needed to apply are available at the Grants.gov Web site, http://www.grants.gov.

FOR FURTHER INFORMATION CONTACT: Questions regarding the funding opportunity announcement should be emailed to HarwoodGrants@dol.gov, or by telephone at: 847-759-7926. This is not a toll-free number. Personnel will not be available to answer questions after 5:00 p.m., ET.

To obtain further information on the Susan Harwood Training Grant Program, visit the OSHA Web site at: https://www.osha.gov/dte/sharwood/index.html.

Questions regarding Grants.gov should be emailed to Support@grants.gov or directed to the Applicant Support toll free at 1-800-518-4726. The Applicant Support is available 24 hours a day, 7 days a week except on Federal holidays.

Authority and Signature

Thomas Galassi, Acting Deputy Assistant Secretary of Labor for Occupational Safety and Health, directed the preparation of this notice. The authority for this notice is Section 21 of the Occupational Safety and Health Act of 1970, (29 U.S.C. 670), Public Law 113-235, and Secretary of Labor's Order No. 1-2012 (77 FR 3912).

Signed at Washington, DC, on July 11, 2017.
Thomas Galassi,
Acting Deputy Assistant Secretary of Labor for Occupational Safety and Health.

[FR Doc. 2017-15034 Filed 7-17-17; 8:45 am]

BILLING CODE 4510-26-P